NATIONAL CREDIT UNION ADMINISTRATION

Sunshine Act: Notice of Agency Meeting

TIME AND DATE:

10:00 a.m., Friday, December 18, 2020

Recess: 12:00 p.m.

12:15 p.m., Friday, December 18, 2020

PLACE: Due to the COVID-19 Pandemic, the meeting will be open to the public via live webcast only. Visit the agency's homepage (www.ncua.gov.) and access the provided webcast link.

STATUS: Parts of this meeting will be open to the public. The rest of the meeting will be closed to the public.

MATTERS TO BE CONSIDERED:

Portions Open to the Public

1. NCUA Rules and Regulations, Annual Operating Fee Assessment.

2. NCUA's 2021-2022 Budget.

3. Board Briefing, NCUA Operating Fee Schedule and Overhead Transfer Rate (OTR).

Portions Closed to the Public

1. Supervisory Action. Closed pursuant to Exemptions (7), (8), and (9)(ii).

2. Personnel Action. Closed pursuant to Exemption (2).

CONTACT PERSON FOR MORE INFORMATION: Melane Conyers-Ausbrooks, Secretary of the Board, Telephone: 703-518-6304.

Melane Conyers-Ausbrooks,
Secretary of the Board.

[FR Doc. 2020-27614 Filed 12-11-20; 11:15 am]

BILLING CODE 7535-01-P